FEDERAL MARITIME COMMISSION

Privacy Act of 1974; Proposed New Systems of Records

Agency: Federal Maritime Commission.

ACTION: Notice of Proposed New Systems of Records.

SUMMARY: In accordance with the Privacy Act of 1974, the Federal Maritime Commission is issuing notice of the establishment of new systems of records.

DATES: Submit an original and 15 copies of comments (paper), or e-mail comments as an attachment in WordPerfect 10, Microsoft Word 2003, or earlier versions of these applications, no later than August 1, 2008. The new systems will be effective August 11, 2008, unless comments are received that would result in a contrary determination.

ADDRESSES: Address all comments concerning this notice to: Karen V. Gregory, Assistant Secretary, Federal Maritime Commission, 800 N. Capitol Street, NW., Washington, DC 20573-0001, Secretary@fmc.gov.

FOR FURTHER INFORMATION CONTACT: Karen V. Gregory, Assistant Secretary, Federal Maritime Commission, 800 N. Capitol Street, NW., Washington, DC 20573-0001, (202) 523-5725, Secretary@fmc.gov.

SUPPLEMENTARY INFORMATION: The Commission proposes to adopt the following additional Systems of Records (“SOR”). Interested parties may participate by filing with the Assistant Secretary, Federal Maritime Commission their views and comments pertaining to this Notice. All suggestions for changes in the text should be accompanied by draft language necessary to accomplish the desired changes and should be accompanied by supportive statements and arguments. Comments must be submitted in the prescribed time or the proposed SOR will become effective as scheduled.

Notice is hereby given, that pursuant to the Privacy Act of 1974, 5 U.S.C 552a, the Commission proposed to establish new Systems of Records reading as follows:

FMC-32

System Name:

Regulated Persons Index (“RPI”).

Security Classification:

Unclassified.

System Location:

Bureau of Certification and Licensing, Federal Maritime Commission, 800 North Capitol Street, NW., Washington, DC 20573-0001.

Categories of individuals covered by the system:

Records are maintained on persons, including passenger vessel operators, vessel operating common carriers, marine terminal operators, sole proprietorships, association or agreement of persons, financial institutions, third party filers, practitioners before the Commission, ocean freight forwarders, non-vessel-operating common carriers, members of partnerships, and officers and owners of corporate licensees, managers/members and owners of limited liability companies, ex-licensees, and applicants for licenses.

Categories of records in the system:

The system contains names, addresses, phone/fax numbers of regulated entities and, where applicable, tax payer identification numbers (which may be Social Security Numbers), or names, addresses, and Social Security Numbers (or alternatively, driver's license numbers, passport, visa, or alien registration numbers) of the stockholders, officers, managers/members, and directors of individual ocean transportation intermediaries (OTIs); financial responsibility information including name of financial institutions, instrument identification numbers and amount of instruments; and, internal processing and licenses information pertinent to OTIs. Under the Shipping Act of 1984, as amended, OTIs may be an ocean freight forwarder, a non-vessel-operating common carrier, or both.

Authority for maintenance of the system:

5 U.S.C. 553; secs. 3, 8, 10, 11, 13, 15, 17 and 19, Shipping Act of 1984 (recodified October 2006 as 46 U.S.C. 305, 40102, 40104, 40501-40503, 40901-40904, 41101-41109, 41302-41303, and 41305), 46 App. U.S.C. 1704 (recodified as 46 U.S.C. 40302-40303), 46 App. U.S.C. 1707 (recodified as 46 U.S.C. 40501-40503), 46 App. U.S.C. 817(d) and (e) (recodified 46 U.S.C. 44101-44106), 46 CFR 502.27, 46 CFR 520.3(d).

Routine uses of records maintained in the system, including categories of users and the purposes of such uses:

These records and information contained in these records may be disclosed as follows:

1. By the Commission staff for monitoring the activities of regulated entities to ensure they are in compliance with Commission regulations.

2. By Commission staff for evaluation of applicants for licensing and certificates.

3. To provide or update information maintained in the U.S. Customs and Border Protection's (CBP) Automated Commercial Environment/International Trade Data System (ACE/ITDS) to verify licensed or registered status of OTIs under the Trade Act of 2002 and related CBP requirements (or any other successor agency or organization) and to verify that passenger vessels with 50 or more passenger berths embarking passengers from U.S. ports have valid certificates.

4. Selected data such as name, address, phone/fax number are available to the public at a fee.

5. To appropriate agencies, entities, and persons when (a) the Federal Maritime Commission suspects or has confirmed that the security or confidentiality of information in the system of records has been compromised; (b) the agency has determined that as a result of the suspected or confirmed compromise there is a risk of harm to economic or property interests, identity theft or fraud, or harm to the security or integrity of this system or other systems or programs (whether maintained by the agency or another agency or entity) that rely upon the compromised information; and (c) the disclosure made to such agencies, entities, and persons is reasonably necessary to assist in connection with the agency's efforts to respond to the suspected or confirmed compromise and prevent, minimize, or remedy such harm.

Policies and practices for storing, retrieving, accessing, retaining, and disposing of records in the system:

Storage:

Records are maintained in file folders and LAN environment at Commission headquarters.

Retrievability:

Records are indexed by name, organization number, or license number.

Safeguards:

Records are maintained in an area of restricted accessibility.

Retention and disposal:

Passenger vessel applicant and certificate files and OTI applicant and licensee files are kept as long as the application and/or certificate/license is active. Files for withdrawn and denied applicants, and revoked licensees as well as passenger vessel operators no longer active in the program remain in the Record Location Center ten years after final action. After ten years, the files are destroyed.

System manager(s) and address:

Director, Bureau of Certification and Licensing, Federal Maritime Commission, 800 North Capitol Street, NW., Washington, DC 20573-0001.

Notification procedure:

All inquiries regarding this system of records should be addressed to: Secretary, Federal Maritime Commission, 800 North Capitol Street, NW., Washington, DC 20573-0001.

Record access procedures:

Requests for access to a record should be directed to the Secretary listed at the above address. Request may be in person or by mail and shall meet the requirements set out in section 503.65 of title 46 of the Code of Federal Regulations.

Contesting record procedures:

An individual desiring to amend a record shall direct such request to the Secretary at the above listed address. Such requests shall specify the desired amendments and the reasons therefore, and shall meet the requirements of section 503.66 of title 46 of the Code of Federal Regulations.

Record source categories:

1. Information submitted by applicants, licensees, certificants, practitioners, third party filers, vessel operating common carriers, marine terminal operators, financial entities including surety companies.

2. OTI license status information.

3. Information submitted by Commission Area Representatives.

4. Information obtained through Internet web site searches and selected commercial and government database searches conducted by BCL staff in processing OTI and PVO applications (e.g., ChoicePoint and Dun & Bradstreet).

5. Information submitted by the general public.

6. Information submitted by surety companies.

Systems exempted from certain provisions of the Act:

All information that meets the criteria of 5 U.S.C. 552a(k)(2) regarding investigatory materials compiled for law enforcement purposes is exempted from the provisions of 5 U.S.C. 552a(c)(3), (d), (e)(1), (e)(4)(G), (H), and (I), and (f). Exemption is appropriate to avoid compromise of ongoing investigations, disclosure of the identity of confidential sources and unwarranted invasions of personal privacy of third parties.

FMC-33

System name:

Payroll/Personnel System.

System classification:

Unclassified.

System location:

Hard copies of personnel records and payroll transactions and reports are located at the Federal Maritime Commission, 800 North Capitol Street, NW., Washington, DC 20573-0001. Electronic data are located at the U.S. Department of Agriculture, National Finance Center, New Orleans, LA 70129. The electronic records are subject to the Office of Personnel Management's government-wide system notice, OPM/GOVT-1.

Categories of individuals covered by the system:

Current and former employees of the Federal Maritime Commission.

Categories of records in the system:

All official personnel actions and/or payroll transaction information on Commission employees.

Authority for maintenance of the system:

5 U.S.C. 301, 2302(b)(20)(B), 2302(b)(10), 7311, 7313; Executive Order 10450; 5 CFR 731.103.

Routine uses of records maintained in the system, including categories of users and the purposes of such uses:

In the event that a system of records maintained by this agency to carry out its functions indicates a violation or potential violation of law, whether civil, criminal or regulatory in nature, and whether arising by general statute or particular program state, or by regulation, rule or order issued pursuant thereto, the relevant records in the system of records may be referred, as a “routine use,” to the appropriate agency, whether Federal, State, local or foreign, charged with the responsibility of investigating or prosecuting such violation or charged with enforcing or implementing the statute, or rule, regulation or order issued pursuant thereto.

A record from this system of records may be disclosed as a “routine use”:

1. To a Federal, State or local agency maintaining civil, criminal or other relevant enforcement information or other pertinent information, such as current licenses, if necessary, to obtain information relevant to an agency decision concerning the hiring or retention of any employee, the issuance of a security clearance, the letting of a contract or the issuance of a license grant or other benefit.

2. To a Federal agency, in response to its request, in connection with the hiring or retention of an employee, the issuance of a security clearance, the reporting of an investigation of an employee, the letting of a contract, or the issuance of license, grant or other benefit by the requesting agency, to the extent that the information is relevant and necessary to the requesting agency's decision in the matter.

3. To the Office of Child Support Enforcement, Administration for Children and Families, Department of Health and Human Services Federal Parent Locator Service (FPLS) and Federal Tax Offset System for use in locating individuals and identifying their income sources to establish paternity, establish and modify orders of support and for enforcement action.

4. To the Office of Child Support Enforcement for release to the Social Security Administration for verifying Social Security Numbers in connection with the operation of the FPLS by the Office of Child Support Enforcement.

5. To the Office of Child Support Enforcement for release to the Department of Treasury for purposes of administering the Earned Income Tax Credit Program (Section 32, Internal Revenue Code of 1986) and verifying a claim with respect to employment in a tax return.

6. To an authorized appeal grievance examiner, formal complaints examiner, equal employment opportunity investigator, arbitrator or other duly authorized official engaged in investigation or settlement of a grievance, complaint, or appeal filed by an employee. A record from this system of records may be disclosed to the Office of Personnel Management in accordance with the agency's responsibility for evaluation and oversight of Federal personnel management.

7. To officers and employees of a Federal agency for purposes of audit.

8. To a Member of Congress or to a congressional staff member in response to an inquiry of the congressional office made at the request of the individual about whom the record is maintained.

9. To officers and employees of the National Finance Center in connection with administrative services provided to this agency under agreement with NFC.

10. To GAO for audit; to the Internal Revenue Service for investigation; and to private attorneys, pursuant to a power of attorney.

11. To the Merit Systems Protection Board, the Office of Special Counsel, the Equal Employment Opportunity Commission, or the Federal Labor Relations Authority, in connection with functions vested in those agencies.

12. To the Office of Management and Budget in connection with private relief legislation.

13. In litigation before a court or in an administrative proceeding being conducted by a Federal agency.

14. To the National Archives and Records Administration for records management inspections.

15. To Federal agencies as a data source for management information through the production of summary descriptive statistics and analytical studies in support of the functions for which the records are maintained for related studies.

16. To appropriate agencies, entities, and persons when (a) the Federal Maritime Commission suspects or has confirmed that the security or confidentiality of information in the system of records has been compromised; (b) the agency has determined that as a result of the suspected or confirmed compromise there is a risk of harm to economic or property interests, identity theft or fraud, or harm to the security or integrity of this system or other systems or programs (whether maintained by the agency or another agency or entity) that rely upon the compromised information; and (c) the disclosure made to such agencies, entities, and persons is reasonably necessary to assist in connection with the agency's efforts to respond to the suspected or confirmed compromise and prevent, minimize, or remedy such harm.

A copy of an employee's Department of the Treasury Form W-2, Wage and Tax Statement, also is disclosed to the state, city, or other local jurisdiction which is authorized to tax the employee's compensation. The record will be provided in accordance with a withholding agreement between the state, city or other local jurisdiction and the Department of the Treasury pursuant to 5 U.S.C. 5516, 5517, and 5520, or, in the absence thereof, in response to a written request from an appropriate official of the taxing jurisdiction to the Secretary, Federal Maritime Commission, 800 North Capitol Street, NW., Washington, DC 20573-0001. The request must include a copy of the applicable statute or ordinance authorizing the taxation of compensation and should indicate whether the authority of the jurisdiction to tax the employee is based on place of residence, place of employment, or both. Pursuant to a withholding agreement between a city and the Department of the Treasury (5 U.S.C. 5520), copies of executed city tax withholding certificates shall be furnished to the city in response to written request from an appropriate city official to the Secretary at the above address.

In the absence of a withholding agreement, the Social Security Number will be furnished only to a taxing jurisdiction which has furnished this agency with evidence of its independent authority to compel disclosure of the Social Security Number, in accordance with section 7 of the Privacy Act, Public Law 93-579.

Policies and practices for storing, retrieving, accessing, retaining, and disposing of records in the system:

Storage:

Paper records are stored in Official Personnel Folders and payroll files at the FMC. Electronic records reside at the National Finance Center.

Retrievability:

Hard copy records are retrievable by name. Electronic data can be retrieved by Social Security Number.

Safeguards:

Electronic records are stored at the National Finance Center, which is located in a secured Federal complex with controlled access. Access to data is limited to those individuals to whom NFC has granted access/security. Output documents from the system are maintained as hard copy documents by the FMC's Office of Human Resources in secured cabinets located within a secured room.

Retention and disposal:

Disposition of records shall be in accordance with General Records Schedule 2.

System manager(s) and address:

Director of Human Resources, Federal Maritime Commission, 800 North Capitol Street, NW., Washington, DC 20573-0001.

Notification procedure:

All inquiries regarding this system of records should be addressed to: Secretary, Federal Maritime Commission, 800 North Capitol Street, NW., Washington, DC 20573-0001.

Record access procedures:

Requests for access to a record should be directed to the Secretary listed at the above address. Requests may be in person or by mail and shall meet the requirements set out in section 503.65 of title 46 of the Code of Federal Regulations.

Contesting record procedures:

An individual desiring to amend a record shall direct such a request to the Secretary at the above listed address. Such requests shall specify the desired amendments and the reasons therefor, and shall meet the requirements of section 503.66 of title 46 of the Code of Federal Regulations.

Record source categories:

The subject individual; the Commission.

FMC-34

System name:

Travel Charge Card Program—FMC.

System location:

Office of Financial Management, Federal Maritime Commission, 800 North Capitol Street, NW., Washington, DC 20573-0001.

This system is covered by the General Services Administration's government-wide system notice, GSA/GOVT-3.

FMC-35

System name:

Transit Benefits File—FMC.

System location:

Office of Management Services, Federal Maritime Commission, 800 North Capitol Street, NW., Washington, DC 20573-0001.

This system is covered by the Department of Transportation's government-wide system notice, DOT/ALL-8.

FMC-36

System name:

SmartPay Purchase Charge Card Program—FMC.

System location:

Office of Management Services, Federal Maritime Commission, 800 North Capitol Street, NW., Washington, DC 20573-0001.

This system is covered by the General Services Administration's government-wide system notice, GSA/GOVT-6.

By the Commission.
Karen V. Gregory,
Assistant Secretary.

[FR Doc. E8-15037 Filed 7-1-08; 8:45 am]

BILLING CODE 6730-01-P